DEPARTMENT OF HOUSING AND URBAN DEVELOPMENT

[Docket No. FR-5386-N-06]

Privacy Act of 1974; Notice of a New Privacy Act System of Records (SORN), Ginnie Mae Mortgage-Backed Securities Unclaimed Funds System

AGENCY: Office of the Chief Information Officer, HUD.

ACTION: Notice of a New Privacy Act SORN.

SUMMARY: The Department proposes to establish a new Privacy Act SORN subject to the Privacy Act of 1974 (5 U.S.C. 552a), as amended, entitled Ginnie Mae Mortgage-Backed Security Unclaimed Funds System. The new record system will be used to track unclaimed security holder payments. Such unclaimed payments are owed to certificate holders of Ginnie Mae-guaranteed mortgage-backed securities who cannot be located by the Ginnie Mae servicer. Ginnie Mae tracks this information to ensure that security holders are paid properly.

DATES: Effective Date: This action shall be effective without further notice on August 30, 2010 unless comments are received that would result in a contrary determination.

Comments Due By: August 30, 2010.

ADDRESSES: Interested persons are invited to submit comments regarding this notice to the Rules Docket Clerk, Office of General Counsel, Room 10276, Department of Housing and Urban Development, 451 Seventh Street, SW., Washington, DC 20410. Communications should refer to the above docket number and title. A copy of each communication submitted will be available for public inspection and copying between 8 a.m. and 5 p.m. weekdays at the above address.

FOR FURTHER INFORMATION CONTACT: The Privacy Officer, Donna Robinson-Staton, Departmental Privacy Officer, Department of Housing and Urban Development, 451 Seventh Street, SW., Room 2256, Washington, DC 20410, Telephone Number (202) 402-8073. (This is not a toll-free number.) A telecommunication device for hearing-and speech-impaired individuals (TTY) is available at 1-800-877-8339 (Federal Information Relay Service).

SUPPLEMENTARY INFORMATION: Pursuant to the Privacy Act of 1974 (5 U.S.C. 552a), as amended, notice is given of a new system or records, Ginnie Mae Mortgage-Backed Security Unclaimed Funds System. Title 5 U.S.C. 552a(e)(4) and (11) provide that the public be afforded a 30-day period in which to comment on the modified system of records, and require published notice of the existence and character of the system of records.

The new system report was submitted to the Office of Management and Budget (OMB), the Committee on Homeland Security and Governmental Affairs of the Senate, and the House Committee on Oversight and Government Reform of the House of Representatives pursuant to paragraph 4c of Appendix 1 to OMB Circular No. A-130, “Federal Agency Responsibilities for Maintaining Records About Individuals,” July 25, 1994; 59 FR 37914.

Authority: Sec. 306(g), National Housing Act, 12 U.S.C. 1721(g).

Dated: July 15, 2010.
Jerry E. Williams,
Chief Information Officer.

HUD/GNMA-01

System Name:

Ginnie Mae Mortgage-Backed Securities Unclaimed Funds System.

System Location:

Bank of New York (Contractor site), New York, New York.

Categories of individuals covered by the system:

Ginnie Mae-guaranteed mortgage-backed securities certificate holders who have not been located.

Categories of records in the System:

Security holder's(s') name(s), address, social security number, certificate number, Ginnie Mae pool number, and Committee on Uniform Securities Identification Procedures (CUSIP) number.

Authority for maintenance of the system:

Sec. 306(g), National Housing Act, 12 U.S.C. 1721(g).

Purposes:

The system is used to track unclaimed security holder payments. Such unclaimed payments are owed to certificate holders of Ginnie Mae-guaranteed mortgage-backed securities who cannot be located by the Ginnie Mae servicer.

Routine uses of records maintained in the system, including categories of users and the purposes of such uses:

In addition to those disclosures generally permitted under 5 U.S.C. 552a(b) of the Privacy Act, other routine uses are as follows:

(a) To the U.S. Treasury—for disbursements and adjustments; and

(b) To the Internal Revenue Service and to state and local governments—for reporting payments for interest; and

(c) To the U.S. Department of Justice, courts, Federal, state and local government agencies in conjunction with civil, administrative and criminal litigation as well as investigations and audits; and

(d) To individuals and entities under contract, cooperative agreement, or working agreement with HUD to assist the Department in fulfilling its statutory and management responsibilities.

Additional Disclosure for Purposes of Facilitating Responses and Remediation Efforts in the Event of a Data Breach. A record from a system of records maintained by this Department may be disclosed to appropriate agencies, entities, and persons when:

(a) The Department suspects or has confirmed that the security or confidentiality of information in the system of records has been compromised; and

(b) the Department has determined that as a result of the suspected or confirmed compromise there is a risk of harm to economic or property interests, identity theft or fraud, or harm to the security or integrity of this system or other systems or programs (whether maintained by the HUD or another agency or entity) that rely upon the compromised information; and

(c) the disclosure made to such agencies, entities, and persons is reasonably necessary to assist in connection with the HUD's efforts to respond to the suspected or confirmed compromise and prevent, minimize, or remedy such harm.

Policies and practices for storing, retrieving, accessing, retaining, and disposing of records in the system:

Storage:

Electronic files are stored on servers and back-up files are stored on tapes. Servers are stored in a secured server room and at an offsite secured facility for disaster contingency. The original documents (hard copy) are stored securely at the contractor's office or at a secured offsite document storage facility.

Retrievability:

Information is retrieved by security holder's(s') name(s), address, social security number, certificate number, Ginnie Mae pool number, and CUSIP number.

Safeguards:

Electronic records are maintained in a secured computer network behind a firewall. Access to records is limited to authorized personnel.

Retention and disposal:

Are in accordance with HUD Records Disposition Schedule 2225.6, Appendix 20.

System Manager(s) and address:

Bank of New York servicing Ginnie Mae, Office of Program Operations guaranteed mortgage-backed securities. Inquiries or requests are to be submitted to the Bank of New York Mellon, 101 Barclay Street 8 East, New York, New York 10286 (Attention) Evan Delcolle, (202) 815-2086.

Record Access and Notification Procedures:

The Department's rules for providing access to records to the individual concerned appear in 24 CFR part 16. If additional information or assistance is required, contact the System Manager identified above.

Contesting Record Procedures:

The procedures for requesting amendment or correction of records appear in 24 CFR part 16. If additional information is needed, contact:

(i) In relation to contesting contents of records, the Departmental Privacy Officer at HUD, 451 Seventh Street, SW., Room 2256, Washington, DC 20410; and

(ii) In relation to appeals of initial denials, HUD, Departmental Privacy Appeals Officer, Office of General Counsel, 451 Seventh Street, SW., Washington, DC 20410.

Record Source Categories:

Records are established using information received from servicers of Ginnie Mae-guaranteed mortgage-backed securities.

Exemptions:

None.

[FR Doc. 2010-18551 Filed 7-28-10; 8:45 am]

BILLING CODE 4210-67-P